UNITED STATES POSTAL SERVICE BOARD OF GOVERNORS

Sunshine Act Meeting

TIMES AND DATES: 1 p.m., Thursday, October 2, 2003; 8:30 a.m., Friday, October 3, 2003.

PLACE: Wilmington, Delaware, at the Hotel DuPont, 11th & Market Streets, in the King/Sullivan Room.

STATUS: October 2—1 p.m. (Closed); October 3—8:30 a.m. (Open)

MATTERS TO BE CONSIDERED:

Thursday, October 2—1 p.m. (Closed)

1. Financial Update.

2. Strategic Planning.

3. Personnel Matters and Compensation Issues.

Friday, October 3—8:30 a.m. (Open)

1. Minutes of the Previous Meeting, September 8-9, 2003.

2. Remarks of the Postmaster General and CEO.

3. Board of Governors Calendar Year 2004 Meeting Schedule.

4. Office of the Governors Fiscal Year 2004 Budget.

5. Preview of the 2004 Stamp Program.

6. Report on the Eastern Area and South Jersey District.

7. Tentative Agenda for the November 3-4, 2003, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 03-24616 Filed 9-24-03; 2:49 pm]

BILLING CODE 7710-12-M